ENVIRONMENTAL PROTECTION AGENCY

[EPA-HQ-OAR-2008-0707; FRL-9931-79-OEI]

Information Collection Request Submitted to OMB for Review and Approval; Comment Request; Data Reporting Requirements for State and Local Vehicle Emission Inspection and Maintenance (I/M) Programs

AGENCY: Environmental Protection Agency (EPA).

ACTION: Notice.

SUMMARY: The Environmental Protection Agency has submitted an information collection request (ICR), “Data Reporting Requirements for State and Local Vehicle Emission Inspection and Maintenance (I/M) Programs” (EPA ICR No. 1613.05, OMB Control No. 2060-0252) to the Office of Management and Budget (OMB) for review and approval in accordance with the Paperwork Reduction Act (44 U.S.C. 3501 et seq.). This is a proposed extension of the ICR, which is currently approved through November 30, 2015. Public comments were previously requested via the Federal Register (80 FR 27949) on May 15, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before October 21, 2015.

ADDRESSES: Submit your comments, referencing Docket ID Number EPA-HQ-OAR-2008-0707, to (1) EPA online using www.regulations.gov (our preferred method), or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Dave Sosnowski, Transportation and Climate Division, Office of Transportation and Air Quality, 2000 Traverwood, Ann Arbor, Michigan 48105; telephone number: 734-214-4823; fax number: 734-214-4052; email address: sosnowski.dave@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: To provide general oversight and support to state and local I/M programs, U.S. Environmental Protection Agency requires that state or local program management for both basic and enhanced I/M programs collect two varieties of reports for submission to EPA. The annual report provides general program operating data and summary statistics, addresses the program's current design and coverage, a summary of testing data, enforcement program efforts, quality assurance and quality control efforts, and other miscellaneous information allowing for an assessment of the program's relative effectiveness. The second report is a biennial, and includes changes and impacts to the program over the previous two-year period.

General program effectiveness is determined by the degree to which a program misses, meets, or exceeds the emission reductions committed to in the state's approved State Implementation Plan (SIP), which, in turn, must meet or exceed the minimum emission reductions expected from the relevant performance standard, as promulgated under EPA's revisions to 40 CFR, Part 51, in response to requirements established in section 182 of the Clean Air Act Amendments of 1990 (Act). This information will be used by EPA to determine a program's progress toward meeting requirements under 40 CFR, Part 51, as well as to assess national trends in the area of basic and enhanced I/M programs and to provide background information in support of periodic site visits and evaluations.

Form Numbers: None.

Respondents/affected entities: State I/M program managers.

Respondent's obligation to respond: Mandatory (40 CFR 51.366).

Estimated number of respondents: 28 (total).

Frequency of response: Annual and biennial.

Total estimated burden: 2,408 hours (per year). Burden is defined at 5 CFR 1320.03(b)

Total estimated cost: $147,476 (per year), includes $0 annualized capital or operation & maintenance costs.

Changes in Estimates: There is no change in the total estimated respondent burden compared with the ICR currently approved by OMB.

Courtney Kerwin,
Acting Director, Collection Strategies Division.

[FR Doc. 2015-23549 Filed 9-18-15; 8:45 am]

BILLING CODE 6560-50-P